DEPARTMENT OF THE INTERIOR

Fish and Wildlife Service

Southern Idaho Ground Squirrel Programmatic Candidate Conservation Agreement With Assurances and Related Draft Environmental Assessment

AGENCY: Fish and Wildlife Service, Interior.

ACTION: Notice of availability and receipt of application.

SUMMARY: The Idaho Department of Fish and Game (Department) has applied to the Fish and Wildlife Service (Service) for an enhancement of survival permit pursuant to section 10(a)(1)(A) of the Endangered Species Act of 1973 (ESA), as amended (16 U.S.C. 1531 et seq.). The permit application includes a proposed Programmatic Southern Idaho Ground Squirrel Candidate Conservation Agreement with Assurances (Agreement) between the Service, the Idaho Department of Fish and Game, and the Idaho Governor's Office of Species Conservation.

Under the proposed Agreement, the parties would implement conservation measures for southern Idaho ground squirrels (Spermophilus brunneus endemicus) over approximately 1,046,569 acres in Adams, Washington, Payette, and Gem counties, Idaho. The intent of the Agreement is to conserve southern Idaho ground squirrels (SIGS) by protecting and enhancing SIGS habitat and populations, and reintroducing SIGS into currently unoccupied suitable habitat, in a manner that is consistent with the non-Federal landowner's land use activities and the Agreement. The proposed term of the Agreement and the permit is 20 years. The Service has prepared a draft Environmental Assessment for approval of the Agreement and issuance of the permit. We request comments from the public on the permit application, the Agreement, and the draft Environmental Assessment.

DATES: Written comments should be received on or before June 7, 2004.

ADDRESSES: You may submit comments by postal mail/commercial delivery or facsimile. Please address your written comments to Carmen Thomas, Project Biologist, Fish and Wildlife Service, 1387 S. Vinnell Way, Room 368, Boise, Idaho 83709 (facsimile: (208) 378-5262).

FOR FURTHER INFORMATION CONTACT: Carmen Thomas at the above address or telephone (208) 378-5243.

SUPPLEMENTARY INFORMATION:

Document Availability

You may obtain copies of the documents for review by contacting the individual named above or by making an appointment to view the documents at the above address during normal business hours.

All comments we receive, including names and addresses, will become part of the administrative record and may be released to the public. If you wish us to withhold your name and/or address, you must state this prominently at the beginning of your comment. All submissions from organizations or companies, or from individuals representing organizations or companies, are available for public inspection in their entirety.

Background

Under a Candidate Conservation Agreement with Assurances (CCAA), participating landowners voluntarily implement conservation activities on their property to benefit species that are proposed or candidates for listing, or for which listing under the ESA is warranted but precluded, or other sensitive species. CCAAs encourage private and other non-Federal property owners to implement conservation efforts and reduce threats to unlisted species by assuring them they would not be subjected to increased property use restrictions, beyond those identified in the agreement, if species are listed in the future under the ESA.

Under the Final Policy for CCAAs (64 FR 32726), the Service must determine that the benefits of the conservation measures implemented by the property owner, when combined with those benefits that would be achieved if it is assumed that the conservation measures would also be implemented on other necessary properties, would preclude or remove the need to list the covered species. Application requirements and issuance criteria for enhancement of survival permits through CCAAs are found in 50 CFR 17.22(d) and 17.32(d).

On October 30, 2001, the Service formally identified the southern Idaho ground squirrel as a candidate for listing under the ESA (66 FR 54808). SIGS are currently found within an approximately 1,046,569-acre area comprised of lower elevation shrub/steppe habitat in the Weiser and Payette river basins in southwest Idaho. The species appears to have undergone a substantial population decline throughout its range since 1985. SIGS are largely dependent on private lands: 85 percent of the occupied ground squirrel sites are located on private lands, mostly ranches and farms; 12 percent are under federal management by the Bureau of Land Management; and 3 percent of the sites are on lands managed by the Idaho Department of Lands. Conservation measures implemented on private lands are important for the long-term survival of the species.

Landowners may be willing to implement measures that enhance populations of sensitive species on their property, but reluctant to do so because of potential land-use restrictions that could occur should the species eventually be listed under the ESA. As a result of this potential regulatory concern, the Department developed the Agreement, in cooperation with the Service, and is applying to the Service for a permit under section 10(a)(1)(A) of the ESA to enhance the propagation or survival of the species and to authorize incidental take of SIGS should the species be listed during the term of the permit.

Description of Proposed Action

Under the Agreement and permit, the Department, the Service, and participating non-Federal landowners would implement various conservation measures over the range of the SIGS, depending on present and future occupancy of sites by SIGS. The conservation measures under the Agreement are intended to reduce all threats to the SIGS that are controllable by participating landowners within the project area. Within the project area, enrolled lands must be specifically identified in each participating landowner's site-specific plan. Each site-specific plan would identify in detail how the applicable conservation measures would be implemented on an individual landowner's property considering baseline SIGS populations and habitat conditions, and the landowner's planned use activities. For a participating landowner's site-specific plan to be approved, the site-specific plan must contain all conservation measures identified in the Agreement that are within the participating landowner's control, and result in a net improvement in SIGS habitat or populations on the enrolled lands.

Conservation measures that may be implemented on private lands within the project area that are enrolled in the Agreement include: (1) Implement habitat maintenance or enhancement measures such as seeding native vegetation species, fertilizing vegetation, prescribed burning, and providing escape cover; (2) prohibit shooting, trapping, or poisoning of SIGS; (3) minimize direct mortality from ground disturbing activities; (4) allow translocation of SIGS into unoccupied, suitable habitat; (5) control Columbian ground squirrels and badgers to reduce competition and predation; (6) monitor ground squirrel populations and habitat characteristics to monitor effectiveness and compliance with the Agreement; (7) actively pursue funding to implement the site-specific plan; and (8) coordinate/cooperate with non-federal third parties that hold conservation easements on or adjacent to enrolled lands, and that wish to participate in the Agreement. Should the species be listed under the ESA during the 20-year term of the permit, the permit would authorize incidental take of SIGS as a result of participating landowners' covered land-use activities, which include crop cultivation and harvesting, livestock grazing and production, farm equipment operation, and recreational activities.

A draft Environmental Assessment has been prepared to address the impacts of permit issuance. The draft Environmental Assessment evaluates the environmental impacts that may result from implementation of the conservation measures described in the Agreement. The draft Environmental Assessment describes alternatives to the proposed action including the no action alternative.

We provide this notice pursuant to section 10(c) of the ESA and implementing regulations for the National Environmental Policy Act (40 CFR 1506.6). We will evaluate the permit application, associated documents, and comments submitted thereon to determine whether the permit application meets the requirements of section 10(a) of the ESA and National Environmental Policy Act regulations. If we determine that the requirements are met, we will sign the Agreement and issue an enhancement of survival permit under section 10(a)(1)(A) of the ESA to the Department for take of SIGS, should it become listed during the term of the permit, incidental to otherwise lawful activities in accordance with the terms of the Agreement. The Service will not make a final decision until after the end of the 30-day comment period and will fully consider all comments received during the comment period.

Dated: May 4, 2004.
David J. Wesley,
Deputy Regional Director, Region 1, Portland, Oregon.

[FR Doc. 04-10426 Filed 5-6-04; 8:45 am]

BILLING CODE 4310-55-P